COMMITTEE FOR PURCHASE FROM PEOPLE WHO ARE BLIND OR SEVERELY DISABLED

Revision to Notice of Quarterly Update of the A-List and Movement of Products Between the A-List, B-List and C-List

The Committee is making a revision to the notice published June 8, 2007 (72 FR 31806) to include the following item on the list of products that moved from the B-List to the A-List:

NSN: 7510-00-161-4237—Stamp Pad Ink—Black Applicator Bottle.

Kimberly M. Zeich,
Director, Program Operations.

[FR Doc. E7-12643 Filed 6-28-07; 8:45 am]

BILLING CODE 6353-01-P